DEPARTMENT OF HEALTH AND HUMAN SERVICES

Health Resources and Services Administration

Agency Information Collection Activities: Submission to OMB for Review and Approval; Public Comment Request; Small Health Care Provider Quality Improvement Program, OMB No. 0915-0387—Revision

AGENCY: Health Resources and Services Administration (HRSA), Department of Health and Human Services.

ACTION: Notice.

SUMMARY: In compliance with of the Paperwork Reduction Act of 1995, HRSA has submitted an Information Collection Request (ICR) to the Office of Management and Budget (OMB) for review and approval. HRSA published the 60-Day notice on January 8, 2018, FR Doc. 2018-00173. Comments submitted during the first public review of this ICR will be provided to OMB. OMB will accept further comments from the public during the review and approval period.

DATES: Comments on this ICR should be received no later than June 6, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Small Health Care Provider Quality Improvement Program, OMB No. 0915-0387—Revision.

Abstract: This program is authorized by Title III, Public Health Service Act, Section 330A(g) (42 U.S.C. 254c(g)), as amended. This authority permits the Federal Office of Rural Health Policy (FORHP) to support grants that expand access to, coordinate, contain the cost of, and improve the quality of essential health care services, including preventive and emergency services, through the development of health care networks in rural and frontier areas and regions. The authority also allows HRSA to provide funds to rural and frontier communities to support the direct delivery of health care and related services, expand existing services, or enhance health service delivery through education, promotion, and prevention programs.

The purpose of the Small Health Care Provider Quality Improvement Grant (Rural Quality) Program is to provide support to rural primary care providers for implementation of quality improvement activities. The program promotes the development of an evidence-based culture and delivery of coordinated care in the primary care setting. Additional objectives of the program include improved health outcomes for patients, enhanced chronic disease management, and better engagement of patients and their caregivers. Organizations participating in the program are required to use an evidence-based quality improvement model; develop, implement and assess effectiveness of quality improvement initiatives; and use health information technology (HIT) to collect and report data. HIT may include an electronic patient registry or an electronic health record, and is a critical component for improving quality and patient outcomes. With HIT, it is possible to generate timely and meaningful data, which helps providers track and plan care.

Need and Proposed Use of the Information: FORHP collects this information to quantify the impact of grant funding on access to health care, quality of services, and improvement of health outcomes. FORHP uses the data for program improvement, and grantees use the data for performance tracking. The measures encompass access to care, population demographics, consortium/network, sustainability, quality improvement implementation strategies, clinical; and optional topic utilization.

The proposed Rural Quality draft measures reflect a reduced number of required measures and improvements to the number of optional measures including the following: 24 total measures (previously 43), which includes 16 required measures applicable to all awardees in addition to improved optional measure choices for 8 total optional measures (previously 4). Proposed revisions specifically include the following: (1) Alignment of clinical measures to current National Quality Forum endorsement recommendations and (2) broadened orientation of measures for improved applicability across variety of rural quality improvement project topic areas.

With the continuing shift in the healthcare environment towards provision of value-based care and utilization of reimbursement strategies through Centers for Medicare and Medicaid quality reporting programs, the latest competitive cohort also aligns with this shift. An increased number of sophisticated applicants leveraging increasingly intricate reporting methodologies for quality data collection, utilization, and analysis has resulted in an estimate of burden hours more in line with the realities of the health care landscape.

Likely Respondents: The respondents would be award recipients of the Small Health Care Provider Quality Improvement Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Small Health Care Provider Quality Improvement Program Performance Improvement Measurement System (PIMS) Measurement | 32 | 1 | 32 | 22 | 704
| 32 |  | 32 |  | 704

Amy P. McNulty,
Acting Director, Division of the Executive Secretariat.

[FR Doc. 2018-09674 Filed 5-4-18; 8:45 am]

BILLING CODE 4165-15-P